POSTAL SERVICE

39 CFR Part 111

Forwarding and Return Service for Parcel Select Mailpieces

AGENCY: Postal Service™.

ACTION: Final rule.

SUMMARY: The Postal Service is revising the Mailing Standards of the United States Postal Service, Domestic Mail Manual (DMM®) 507.1.5.4 and 507.2.3.6 to eliminate the free local forwarding of Parcel Select® mailpieces and to eliminate the option to request discontinuance of forwarding. The Postal Service also implements a new price for Parcel Select forwards and returns; those pieces will now pay the applicable Parcel Select barcoded nonpresort price, plus an additional service fee.

DATES: Effective Date: July 5, 2011.

FOR FURTHER INFORMATION CONTACT: Annette Raney at 202-268-4307, Karen Key at 202-268-7492, or Yvonne Gifford at 202-268-8082.

SUPPLEMENTARY INFORMATION: Current mailing standards permit Parcel Select mailpieces to be forwarded, without an additional postage charge, when the old and new addresses are served within the same Post Office unit. With this final rule, Parcel Select mailpieces will no longer be handed-off to facilitate local delivery within the same office but rather sent to a Centralized Forwarding System (CFS) facility for automated handling. Recipients will now incur an additional service fee, plus the cost of Parcel Select barcoded nonpresort postage for mailpieces that are forwarded locally, just as they do for those mailpieces that are forwarded beyond the local area.

Additionally, with this final rule, mailers who do not wish to pay for forwarding outside the local area may no longer request that parcels not be forwarded. PS Form 3546, which notifies the postmaster of the old address to discontinue forwarding Package Services or Parcel Select, has been revised accordingly.

Prior to December 2006, Parcel Select was forwarded and returned at the Parcel Post price. With the classification of Parcel Select as a competitive product, the DMM was revised to accommodate these changes; however, the price to forward and return Parcel Select was not separately mentioned. With this notice, we are specifying that the price to forward or return Parcel Select pieces will now be the applicable Parcel Select barcoded nonpresort price, plus an additional service fee, which will cover the cost for forwarding or returning the Parcel Select mailpiece.

The Postal Service filed a Notice with the Postal Regulatory Commission (PRC) on March 16, 2011 regarding the forwarding and return service for Parcel Select mailpieces. The regulatory review may take up to 30 days from that date.

The Postal Service herby adopts the following changes to the Mailing Standards for the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

500 Additional Mailing Services

* * * * *

507 Mailer Services

1.0 Treatment of Mail

* * * * *

1.3 Directory Service

USPS letter carrier offices give directory service to the types of mail listed below that have an insufficient address or cannot be delivered at the address given (the USPS does not compile a directory of any kind):

* * * * *

[Revise 1.3d as follows:]

d. Parcels mailed at any Package Services or Parcel Select price.

* * * * *

1.4 Basic Treatment

* * * * *

1.4.5 Extra Services

Mail with extra services is treated according to the charts for each class of mail in 1.5, except that:

* * * * *

[Revise 1.4.5b as follows:]

b. All insured First-Class Mail is forwarded and returned at no additional cost. All insured Standard Mail, Package Services, and Parcel Select is forwarded or returned.

* * * * *

1.5 Treatment for Ancillary Services by Class of Mail

* * * * *

1.5.4 Package Services and Parcel Select

[Revise introductory paragraph of 1.5.4 to include Parcel Select as follows:]

Undeliverable-as-addressed (UAA) Package Services and Parcel Select mailpieces are treated as described in Exhibit 1.5.4, with these additional conditions:

* * * * *

[Revise 1.5.4c as follows:]

c. The endorsement “Change Service Requested” is not permitted for Package Services or Parcel Select mailpieces containing hazardous materials under 601.10.0.

[Revise the first two sentences of 1.5.4d as follows:]

d. If a Package Services or a Parcel Select mailpiece and any attachment are not opened by the addressee, the addressee may refuse delivery of the piece and have it returned to the sender without affixing postage. Pieces endorsed “change service requested” as allowed in 1.5.4c are not returned to sender when refused. If a Package Services or Parcel Select piece or any attachment to that piece is opened by the addressee, the addressee must affix the applicable postage to return the piece to the sender. * * *

[Revise 1.5.4e as follows:]

e. An undeliverable Package Services or a Parcel Select mailpiece that bears postage with a postage evidencing imprint and that has no return address or illegible return address is returned to the meter licensee or PC Postage customer upon payment of the return postage. The reason for nondelivery is attached, with no address correction fee. All Package Services (except unendorsed Bound Printed Matter) and Parcel Select pieces must have a legible return address.

* * * * *

Exhibit 1.5.4 Treatment of Undeliverable Package Services Mail and Parcel Select

Mailer Endorsement—USPS Treatment of UAA Pieces

* * * * *

[Revise Address Service Requested, Forwarding Service Requested and Return Service Requested text of Exhibit 1.5.4 as follows:]

“Address Service Requested”

If no change-of-address order on file:

Piece is returned with reason for nondelivery attached (only return postage charged) as follows:

a. Parcel Select: At the Parcel Select barcoded nonpresort price plus the additional service fee.

b. Package Services: At the appropriate single-piece price for the specific class of mail.

If change of-address order on file:

• Months 1 through 12: Package Services forwarded locally (no charge); Package Services forwarded outside the local area at the single-piece price for the class of mail. Parcel Select forwarded as postage due to addressee at the Parcel Select barcoded nonpresort price plus the additional service fee for Parcel Select. In both cases, separate notice of new address is provided (address correction fee charged). If addressee refuses to pay postage due, piece is returned with reason for nondelivery attached and postage charged as follows:

a. Parcel Select: At the Parcel Select barcoded nonpresort price plus the additional service fee.

b. Package Services: At the single-piece price for the class of mail.

• Months 13 through 18: Piece returned with new address attached (postage charged as noted in items a and b under “Months 1 through 12”).

• After month 18: Piece returned with reason for nondelivery attached (postage charged as noted in items a and b under “Months 1 through 12”).

“Forwarding Service Requested” ²

If no change-of-address order on file:

Piece returned with reason for nondelivery attached; return postage charged as follows:

a. Parcel Select: At the Parcel Select barcoded nonpresort price plus the additional service fee.

b. Package Services: At the appropriate single-piece price for the specific class of mail.

If change of-address order on file:

• Months 1 through 12: Package Services forwarded locally (no charge); Package Services forwarded outside the local area at the single-piece price for the class of mail. Parcel Select forwarded as postage due to addressee at the Parcel Select Barcoded Nonpresorted price plus the additional service fee for Parcel Select. If addressee refuses to pay postage due, piece returned with reason for nondelivery attached; postage charged as follows:

a. Parcel Select: At the Parcel Select barcoded nonpresort price plus the additional service fee.

b. Package Services: At the single-piece price for the class of mail.

• Months 13 through 18: Piece returned with new address attached (postage charged as noted in items a and b under “Months 1 through 12”).

• After month 18: Piece returned with reason for nondelivery attached (postage charged as noted in items a and b under “Months 1 through 12”).

“Return Service Requested”

In all cases:

Piece returned with new address or reason for nondelivery attached (return postage charged as follows):

a. Parcel Select: At the Parcel Select Barcoded Nonpresorted price plus the additional service fee.

b. Package Services: At the appropriate single-piece price for the specific class of mail.

* * * * *

.

1.6 Attachments and Enclosures

* * * * *

.

[Revise title and text of 1.6.3 as follows:]

1.6.3 Package Services and Parcel Select

Undeliverable, unendorsed mailpieces with a First-Class Mail attachment or enclosure are forwarded or returned as follows:

a. Parcel Select at the Parcel Select barcoded nonpresort price plus the additional service fee.

b. Package Services at the single-piece price for the specific class of mail.

c. For both types of host pieces, if the attachment or enclosure is a nonincidental First-Class Mail attachment or enclosure, the weight of the attachment or enclosure is not included when computing charges.

1.7 Mixed Classes

* * * * *

1.7.2 Other Combinations

[Revise text of 1.7.2 as follows:]

Pieces of Periodicals, Standard Mail, Package Services, or Parcel Select with other classes of mail attached or enclosed (other than incidental First-Class Mail attachments or enclosures) must be forwarded under standards for the host piece. Neither the enclosures nor the host piece are provided the forwarding service of First-Class Mail.

* * * * *

.

1.9 Dead Mail

1.9.1 Basic Information

* * * Every reasonable effort is made to match articles found loose in the mail with the envelope or wrapper from which lost and to return or forward the articles.

* * * * *

.

[Revise text of 1.9.1e as follows:]

e. Except for unendorsed Standard Mail, all undeliverable Standard Mail, Package Services, Parcel Select, and insured First-Class Mail containing Standard Mail or Package Services enclosures that cannot be returned because of an incorrect, incomplete, illegible, or missing return address is opened and examined to identify the sender or addressee.

* * * * *

.

2.0 Forwarding

* * * * *

2.2 Forwardable Mail

* * * * *

2.2.3 Discontinued Post Office

[Revise text of 2.2.3 as follows:]

All Express Mail, First-Class Mail, Periodicals, Package Services, and Parcel Select mail addressed to a discontinued Post Office may be forwarded without charge to a Post Office that the addressee designates as more convenient than the office to which the USPS ordered the mail sent.

2.2.4 Rural Delivery

[Revise text of 2.2.4 as follows:]

When rural delivery service is established or changed, a customer of an office receiving mail from the original delivery office may file a written request with the postmaster at the original office to have all Express Mail, First-Class Mail, Periodicals, Package Services, and Parcel Select mail forwarded to the new delivery office without added charge.

* * * * *

2.2.6 Mail for Military Personnel

[Revise the first sentence of 2.2.6 as follows:]

All Express Mail, First-Class Mail, Periodicals, Package Services, and Parcel Select mail addressed to persons in the U.S. Armed Forces (including civilian employees) serving where U.S. mail service operates is forwarded at no added charge when the change of address is caused by official orders. * * *

* * * * *

2.3 Postage for Forwarding

* * * * *

2.3.6 Package Services and Parcel Select

[Revise text of 2.3.6 as follows:]

Package Services and Parcel Select pieces are subject to the collection of additional postage at the applicable price for forwarding; Parcel Select at the Parcel Select barcoded nonpresort price plus the additional service fee and Package Services at the single-piece price for the specific class of mail. Unless endorsed “Change Service Requested,” all Package Services pieces are delivered without additional postage charge when the old and new addresses are served by the same Post Office. Shipper Paid Forwarding, used with Address Change Service (4.0), provides mailers who ship Package Services and Parcel Select parcels an option of paying forwarding postage instead of the addressee paying postage due charges. The addressee may refuse any specific piece of Package Services or Parcel Select that has been forwarded.

* * * * *

We will publish an appropriate amendment to 39 CFR part 111 to reflect these changes.

Stanley F. Mires,
Chief Counsel, Legislative.

[FR Doc. 2011-7405 Filed 3-30-11; 8:45 am]

BILLING CODE 7710-12-P